DEPARTMENT OF AGRICULTURE

Forest Service

Notice of Proposed New Fee Sites for the Ouachita National Forest

AGENCY: Forest Service, USDA.

ACTION: Notice of proposed new fee sites.

SUMMARY: The Ouachita National Forest, in Arkansas, is proposing to charge new fees at two recreation sites: Little Missouri Falls Day Use Site and Wolf Pen Gap Off-Highway Vehicle (OHV) Trail Complex. These sites have had additional amenities added to improve services and experiences. Fees are assessed based on the level of amenities and service provided, cost of operation and maintenance, market assessment, and public comment. Funds from fees would be used for the continued operation and maintenance of these recreation sites. Improvements have been made to the picnicking area at Little Missouri Falls Day Use Site and a new access bridge, with new hardened trail surface, has been installed to allow visitors easier access down to the unique geological features and small wading pools below the series of waterfalls along the Little Missouri River. The proposed new fees to help maintain the Little Missouri Falls Day Use Site would be: $5.00 per motorized vehicle, to include OHV/ATV riders. Over the past few years, a series of new trail routes and improvements have been made at the Wolf Pen Gap OHV Trail Complex for off-highway vehicle (OHV) users. The proposed fees are to be phased in over a period from March 2021 to March 2025, beginning with a fee of $5.00 per ATV/UTV/OHV per day or $40.00 for an annual yearly pass, March 2021. In March 2023, the fee would increase to $8.00 per ATV/UTV/OHV per day or $50.00 for an annual pass. In March 2025, the final fee would increase to $10.00 per ATV/UTV/OHV per day or $60.00 for an annual pass.

DATES: Submit comments about these fee proposals by February 1, 2020, so comments can be compiled, analyzed and shared with the Recreation Resource Advisory Committee. New fees would begin March 1, 2021.

ADDRESSES: Written comments concerning this notice should be addressed to the Supervisor's Office: Norman Wagoner, Forest Supervisor, Ouachita National Forest, P.O. Box 1270, Hot Springs, Arkansas 71902.

FOR FURTHER INFORMATION CONTACT: Bill Jackson, Forest Recreation Program Manager, 501-321-5253. Information about the proposed fee changes can also be found on the Ouachita National Forest website: http://www.fs.usda.gov/ouachita.

SUPPLEMENTARY INFORMATION: The Federal Recreation Lands Enhancement Act (Title VII, Pub. L. 108-477) directed the Secretary of Agriculture to publish a six-month advance notice in the Federal Register whenever new recreation fee areas are established. Once public involvement is complete, these new fees will be reviewed by a Recreation Resource Advisory Committee prior to a final decision and implementation.

Dated: August 19, 2019.
Richard A. Cooksey,
Acting Associate Deputy Chief, National Forest System.

[FR Doc. 2019-19854 Filed 9-12-19; 8:45 am]

BILLING CODE 3411-15-P